DEPARTMENT OF HOMELAND SECURITY

Federal Emergency Management Agency

44 CFR Part 67

[Docket No. FEMA-D-7558]

Proposed Flood Elevation Determinations

AGENCY: Federal Emergency Management Agency, Emergency Preparedness and Response Directorate, Department of Homeland Security.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Mary Jean Pajak, Federal Emergency Management Agency, 500 C Street SW., Washington, DC 20472, (202) 646-2831.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Mitigation Division Director of the Emergency Preparedness and Response Directorate certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of Flooding | Location | #Depth in feet above ground. *Elevation in feet (NGVD) • Elevation in feet (NAVD): Existing | #Depth in feet above ground. *Elevation in feet (NGVD) • Elevation in feet (NAVD): Modified
Alabama | Pike Road (Town), Montgomery County | Little Catoma Creek | Approximately 1.5 miles upstream of the confluence of Little Catoma Creek Tributary 1 | None | •226
|  |  | Approximately 2.7 miles upstream of the confluence of Little Catoma Creek Tributary 1 | None | •232
|  | Little Catoma Creek Tributary 1 | Approximately 4,400 feet upstream of the confluence with Little Catoma Creek | None | •225
|  |  | Approximately 3,300 feet downstream of Carter Mill Road | None | •239
Maps available for inspection at Pike Road Town Office, 915 Meriweather Road, Pike Road, Alabama.
Send comments to The Honorable Judy Rittenour, Mayor of the Town of Pike Road, 1144 Meriweather Road, Pike Road, Alabama 36064.
Pennsylvania | Bridgeton (Township), Bucks County | Delaware River | Approximately 1.22 miles downstream of Upper Black Eddy Bridge | *135 | *134
|  |  | Approximately 1.16 miles downstream of Upper Black Eddy | *135 | *134
Maps available for inspection at the Bridgeton Town Office, 1370 Bridgeton Hill Road, Upper Black Eddy, Pennsylvania.
Send comments to Ms. Barbara Guth, Bridgeton Township Supervisor, P.O. Box 200, Upper Black Eddy, Pennsylvania 18972.
Pennsylvania | Ferguson (Township), Centre County | Big Hollow Run | Approximately 700 feet downstream of Corl Street | None | *1,098
|  |  | Approximately 525 feet downstream of Corl Street | None | *1,099
Maps available for inspection at Ferguson Township Municipal Building, 3147 Research Drive, State College, Pennsylvania.
Send comments to Ms. Dorothy Schmidt, Chairman of the Township of Ferguson Board of Supervisors, 3147 Research Drive, State College, Pennsylvania 16801.

(Catalog of Federal Domestic Assistance No. 83.100, “Flood Insurance.”)
Dated: April 23, 2003.
Anthony S. Lowe,
Mitigation Division Director, Emergency Preparedness and Response Directorate.

[FR Doc. 03-10484 Filed 4-28-03; 8:45 am]

BILLING CODE 6718-04-P